DEPARTMENT OF ENERGY

Federal Energy Regulatory Commission

[Docket No. EL16-36-000]

Arizona Public Service Company; Notice of Institution of Section 206 Proceeding and Refund Effective Date

On February 22, 2016, the Commission issued an order in Docket No. EL16-36-000, pursuant to section 206 of the Federal Power Act (FPA), 16 U.S.C. 824e (2012), instituting an investigation into the justness and reasonableness of Arizona Public Service Company's market based rates in the Tucson Electric balancing authority area. Arizona Public Service Company, 154 FERC ¶ 61,123 (2016).

The refund effective date in Docket No. EL16-36-000, established pursuant to section 206(b) of the FPA, will be the date of publication of this notice in the Federal Register.

Dated: February 22, 2016.
Nathaniel J. Davis, Sr.,
Deputy Secretary.

[FR Doc. 2016-04152 Filed 2-25-16; 8:45 am]

BILLING CODE 6717-01-P